TENNESSEE VALLEY AUTHORITY

Johnsonville Fossil Plant Ash Impoundment Closure

AGENCY: Tennessee Valley Authority.

ACTION: Notice of intent.

SUMMARY: The Tennessee Valley Authority (TVA) intends to prepare an environmental impact statement (EIS) to evaluate the potential environmental effects associated with the future management of coal combustion residuals (CCR) material in Ash Pond 2 at the Johnsonville Fossil Plant (JOF) located in Humphreys County, Tennessee. This EIS supports the implementation of the closure of Ash Pond 2, a CCR surface impoundment at JOF, in a manner that is protective of human health and the environment. TVA's intention to prepare an EIS to address CCR management at JOF Ash Pond 2 was previously noticed in November 2019. The project was paused after completion of scoping while TVA continued to refine the project proposal and alternatives. This current notice is to reinitiate the EIS.

DATES: The public scoping period begins with the publication of this Notice of Intent in the Federal Register. To ensure consideration, comments must be postmarked, emailed, or submitted online no later than December 30, 2024.

ADDRESSES: Written comments should be sent to Brittany Kunkle, NEPA Compliance Specialist, 400 W Summit Hill Drive, WT 11B-K, Knoxville, TN 37902. Comments also may be submitted online at: https://www.tva.gov/nepa or by email to nepa@tva.gov. To ensure your comment is correctly dispositioned, please specify the project when submitting comments. Please note that TVA encourages comments submitted electronically.

FOR FURTHER INFORMATION CONTACT: Brittany Kunkle, 865-632-6470, brkunkle@tva.gov, or by mail at the address above.

SUPPLEMENTARY INFORMATION: The EIS identification number is EISX-455-00-000-1723542522. This notice is provided in accordance with the National Environmental Policy Act (NEPA) along with the Council on Environmental Quality (40 CFR parts 1500 to 1508) and associated TVA regulations and procedures (18 CFR part 1318), and Section 106 of the National Historic Preservation Act (NHPA) and its implementing regulations (36 CFR part 800).

Background

The Tennessee Valley Authority is the largest public power company in the United States providing electricity to 153 local power companies, 60 direct served customers, and serving roughly 10 million people across seven states. TVA is founded on a mission of service, providing low-cost, reliable power, environmental stewardship, and economic development. TVA is an industry leader in responsible coal ash management, pioneering new technologies to ensure our sites are safe, secure, and protective of human health and the environment.

JOF had ten coal-fired generating units that had a combined capacity of 1,254 megawatts. Units 5 through 10 ceased power generation in 2012 and were retired on December 31, 2015. Units 1 through 4 ceased operation and were retired on December 31, 2017. While in operation, JOF consumed approximately 3.5 million tons of coal per year and produced approximately 7,195 million kilowatt-hours of electricity a year. A portion of the CCR produced as a by-product of burning coal by the collective units was stored in Ash Pond 2. It is estimated that approximately 4.5 million cubic yards of CCR material remains in JOF Ash Pond 2.

In January 2019, TVA completed the Final Johnsonville Fossil Plant Decontamination and Deconstruction Environmental Assessment and Finding of No Significant Impact (FONSI) analyzing the potential demolition of the JOF generating units and facilities. As a result of the retirement of all coal-fired generating units at JOF, CCR is no longer being generated and Ash Disposal Area Number 2 (Ash Pond 2) is no longer receiving CCR materials.

In June 2016, TVA issued the Final Ash Impoundment Closure Programmatic Environmental Impact Statement (PEIS) that analyzed methods for closing CCR impoundments at TVA fossil plants and identified specific screening and evaluation factors to help frame its evaluation of closures at its other facilities. A Record of Decision was released in July 2016 that would allow future environmental reviews of qualifying CCR impoundment closures to tier from the PEIS. The PEIS can be found at https://www.tva.com/nepa. This EIS is intended to tier from the 2016 PEIS to evaluate the closure alternatives for the JOF Ash Pond 2.

Preliminary Proposed Action and Alternatives

In addition to a No Action Alternative, this EIS will address reasonable alternatives that meet the purpose and need for the project. TVA plans to consider the following: (1) Closure-in-Place of Ash Pond 2, (2) Closure-by-Removal of Ash Pond 2 to an Existing Offsite permitted Landfill or (3) Closure-by-Removal to an Onsite or Offsite Beneficial Reuse Processing Facility, with unusable CCR and excavated soil material going to an existing offsite permitted landfill. If beneficial reuse is selected, subsequent environmental analyses would be conducted as appropriate.

TVA has not selected an offsite landfill for any potential disposal of CCR from JOF. Therefore, impacts of any potential offsite CCR disposal options would be based on “bounding” characteristics of, for example, CCR transport to suitable existing landfills, using conservative assumptions for defining the upper bound of potential effects. Public comments are invited concerning both the scope of the review and environmental issues that should be addressed.

TVA has not made any decisions about the final disposition of CCR storage at JOF. TVA is preparing this EIS to inform TVA decision makers, other agencies, and the public about the potential for environmental impacts associated with the final disposition of CCR at JOF Ash Pond 2. Final closure decisions may be subject to change depending on feedback from regulatory agencies.

Project Purpose and Need

The purpose of this project is to address the closure of Ash Pond 2, a CCR surface impoundment at JOF. As a result of the retirement of all coal-fired generating units at JOF, CCR is no longer being generated and Ash Disposal Area Number 2 (Ash Pond 2) is no longer receiving CCR materials and should be closed in a manner that is protective of the human health and the environment. This EIS will address the direct, indirect, and cumulative impacts of various alternatives for permanent closure of Ash Pond 2 on the environment.

Request for Identification of Potential Alternatives, Information, and Analyses Relevant to the Proposed Action

Public scoping is integral to the process for implementing NEPA and ensures that issues are identified early and properly studied, issues of little significance do not consume substantial time and effort, and the analysis of those issues is thorough and balanced. The final range of issues to be addressed in the environmental review will be determined, in part, from scoping comments received. TVA is particularly interested in public input on other reasonable alternatives that should be considered in the EIS. The preliminary identification of reasonable alternatives and environmental issues in this notice is not meant to be exhaustive or final.

Public Participation

TVA is committed to the meaningful involvement of our stakeholders and the affected communities in the decision-making process. The public is invited to submit comments on the scope of this EIS no later than the date identified in the DATES section of this notice. Federal, state, and local agencies and Native American Tribes are also invited to provide comments. Written requests by agencies or Indian tribes to participate as a cooperating agency or consulting party must also be received by this date. Any comments received, including names and addresses, will become part of the administrative record and will be available for public inspection.

After consideration of comments received during the scoping period, TVA will develop and distribute a scoping document that will summarize public and agency comments that were received and provide a schedule for completing the EIS process. Following analysis of the affected resources, TVA will prepare a Draft EIS for public review and comment. A final decision on proceeding with the management and final disposal of CCR and closure of the Ash Pond 2 surface impoundment will be based on a number of factors including public input, the conclusions of the EIS, the requirements of the CCR Rule, relevant legal requirements, engineering and risk evaluations, and financial considerations. TVA's intention to prepare an EIS to address CCR management in JOF Ash Pond 2 was previously noticed (84 FR 62562, November 15, 2019). The project was paused after completion of scoping while TVA continued to refine the project proposal and alternatives. Comments received during the previous scoping period will also be considered during the development of the Draft EIS.

TVA expects to release the Draft EIS in late 2025. TVA anticipates holding a community meeting near JOF after releasing the Draft EIS. Meeting details will be posted on TVA's website and advertised in local media. TVA expects to release the Final EIS in Summer 2026.

Michael McCall,
Vice President, Environment and Sustainability.

[FR Doc. 2024-27844 Filed 11-22-24; 4:15 pm]

BILLING CODE 8120-01-P